ENVIRONMENTAL PROTECTION AGENCY

[FRL OP-OFA-185]

Environmental Impact Statements; Notice of Availability

Responsible Agency: Office of Federal Activities, General Information 202-564-5632 or https://www.epa.gov/nepa.

Weekly receipt of Environmental Impact Statements (EIS)

Filed June 23, 2025 10 a.m. EST Through June 27, 2025 10 a.m. EST

Pursuant to CEQ Guidance on 42 U.S.C. 4332.

Notice: Section 309(a) of the Clean Air Act requires that EPA make public its comments on EISs issued by other Federal agencies. EPA's comment letters on EISs are available at: https://cdxapps.epa.gov/cdx-enepa-II/public/action/eis/search.

EIS No. 20250093, Revised Draft, USACE, MS, Pearl River Basin, Mississippi Federal Flood Risk Management Project, Comment Period Ends: 08/18/2025, Contact: Jason Emery 504-862-2364.

Amended Notice:

EIS No. 20250068, Draft, USACE, LA, 2025 Draft GRR SEIS Mississippi River, Baton Rouge to the Gulf of Mexico Mississippi River-Gulf Outlet, Louisiana, New Industrial Canal Lock and Connecting Channels Project, Comment Period Ends: 09/02/2025, Contact: Mark H. Lahare 504-862-1344.

Revision to FR Notice Published 05/30/2025; Extending the Comment Period from 07/17/2025 to 09/02/2025.

Dated: June 27, 2025.
Nancy Abrams,
Associate Director, Office of Federal Activities.

[FR Doc. 2025-12346 Filed 7-2-25; 8:45 am]

BILLING CODE 6560-50-P